ENVIRONMENTAL PROTECTION AGENCY

[FRL-7613-3]

Symposium on Recent Scientific Research Related to the Health Effects of Trichloroethylene

AGENCY: Environmental Protection Agency.

ACTION: Notice of public symposium.

SUMMARY: The National Center for Environmental Assessment (NCEA), a part of the U.S. Environmental Protection Agency's (EPA) Office of Research and Development, is sponsoring a two-day public symposium on recently published scientific research related to the health effects of trichloroethylene (TCE). Eastern Research Group, Inc., (ERG) an EPA contractor, is organizing and convening the symposium. EPA's goal is to hear from the scientists who are at the forefront of TCE-related research.

The symposium will consist of a series of invited presentations by a number of researchers from a variety of scientific fields who have recently published scientific findings related to the health effects of TCE. Because of the volume of published research, and due to funding and timing limitations, this symposium necessarily presents selected important new scientific research. At the end of each speaker's presentation, there will be a limited period for related questions from the audience. The focus of this symposium is published primary research, and no summary or conclusions are being sought about the health risks of TCE.

Members of the public may attend the symposium as observers, and may participate in question periods. Space is limited, and registrations will be accepted on a first-come, first-served basis.

A preliminary program agenda is available on the NCEA Web page at http://www.epa.gov/ncea/. A transcript of the symposium will be made available on the NCEA Web page after the meeting.

DATES: The symposium will be held Thursday, February 26, 2004, 8:30 a.m. to 5:30 p.m. and Friday, February 27, 2004, 8 a.m. to 3 p.m.

ADDRESSES: The symposium will be held at the Renaissance Mayflower Hotel, 1127 Connecticut Avenue, NW., Washington, DC 20036; telephone: (202) 347-3000. ERG, an EPA contractor, is organizing, convening, and conducting the symposium. To attend the symposium, please preregister by February 20, 2004. You may register on line at https://www.ergweb.com/projects/tce/register.htm or call ERG's conference registration line at (781) 674-7374.

FOR FURTHER INFORMATION CONTACT: For symposium information, registration, and logistics, contact the ERG Conference Group at (781) 674-7272, 110 Hartwell Avenue, Lexington, MA 02421; telephone: (781) 674-7272; facsimile: (781) 674-2906; e-mail: meetings@erg.com (referencing the TCE Symposium). For further information, the EPA contact is Dr. Weihsueh Chiu, telephone: (202) 564-7789; e-mail: chiu.weihsueh@epa.gov.

Dated: January 21, 2004.
Peter W. Preuss,
Director, National Center for Environmental Assessment.

[FR Doc. 04-1547 Filed 1-23-04; 8:45 am]

BILLING CODE 6560-50-P